FEDERAL ENERGY REGULATORY COMMISSION

[Docket No. IC12-5-000]

Commission Information Collection Activities (FERC-65, FERC-65A, and FERC-65B); Comment Request; Extension

AGENCY: Federal Energy Regulatory Commission.

ACTION: Notice of information collection and request for comments.

SUMMARY: In compliance with the requirements of the Paperwork Reduction Act of 1995, 44 USC 3506(c)(2)(A), the Federal Energy Regulatory Commission (Commission or FERC) is soliciting public comment on the currently approved information collections, FERC-65, FERC-65A, and FERC-65B (Notification of Holding Company Status, Exemption Notification of Holding Company Status, and Waiver Notification of Holding Company Status).

DATES: Comments on the collections of information are due April 16, 2012.

ADDRESSES: You may submit comments (identified by Docket No. IC12-5-000) by either of the following methods:

• eFiling at Commission's Web Site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: Notification of Holding Company Status (FERC-65), Exemption Notification of Holding Company Status (FERC-65A), and Waiver Notification of Holding Company Status (FERC-65B).

OMB Control No.: 1902-0218 (FERC-65), 1902-0216 (FERC-65A), and 1902-0217 (FERC-65B).¹

¹ In conjunction with the renewal process, the Commission intends to request OMB approval to combine all three collections under one OMB Control Number. This should simplify the FERC administrative burden of processing these information collection requirements.

Type of Request: Three-year extension of the FERC-65, FERC-65A, and FERC-65B information collection requirements with no changes to the current reporting requirements.

Abstract:

FERC-65 (Notification of Holding Company Status)

The FERC-65 is a one-time informational filing outlined in the Commission's regulations at 18 Code of Federal Regulations (CFR) 366.4. The FERC-65 must be submitted within 30 days of becoming a holding company. The Commission does not require the information to be reported in a specific format. The filing consists of the name of the holding company, the name of public utilities, the name of natural gas companies in the holding company system, and the names of service companies. The Commission requires the filing to include the names of special-purpose subsidiaries (which provide non-power goods and services) and the names of all affiliates and subsidiaries (and their corporate interrelationship) to each other. Filings may be submitted in hardcopy or electronically through the Commission's eFiling system.

FERC-65A (Exemption Notification of Holding Company Status)

While noting the previously outlined requirements of the FERC-65, the Commission has allowed for an exemption from the requirement of providing the Commission with a FERC-65 if the books, accounts, memoranda, and other records of any person are not relevant to the jurisdictional rates of a public utility or natural gas company; or if any class of transactions is not relevant to the jurisdictional rates of a public utility or natural gas company. Companies seeking this exemption file the FERC-65A. Commission regulations within 18 CFR 366.3 describe the criteria in more specificity.

FERC-65B (Waiver Notification of Holding Company Status)

Entities may file a FERC-65B pursuant to the notification procedures contained in 18 CFR 366.4 to obtain a waiver from the requirement of providing the Commission with a FERC-65 if they meet the requirements in 18 CFR 366.3(c). Specifically, the Commission waives the requirement of providing it with a FERC 65 for any holding company with respect to one or more of the following: (1) Single-state holding company systems; (2) holding companies that own generating facilities that total 100 MW or less in size and are used fundamentally for their own load or for sales to affiliated end-users; or (3) investors in independent transmission-only companies. Filings may be made in hardcopy or electronically through the Commission's Web site.

Type of Respondents: Public utility companies, natural gas companies, electric wholesale generators, foreign utility holding companies.

Estimate of Annual Burden ²: The Commission estimates the total Public Reporting Burden for this information collection as:

² Burden is defined as the total time, effort, or financial resources expended by persons to generate, maintain, retain, or disclose or provide information to or for a Federal agency. For further explanation of what is included in the information collection burden, reference 5 CFR 1320.3.

FERC-65, FERC-65A, and FERC-65B (IC12-5-000): Notification of Holding Company Status, Exemption Notification, and Waiver Notification
| Number of respondents | Number of responses per respondent | Total number of responses | Average burden hours per response | Estimated total annual burden (hours)
| (A) | (B) | (A) × (B) = (C) | (D) | (C) × (D)
FERC-65 Notification of Holding Company Status | 8 | 1 | 8 | 3 | 24
FERC-65A Exemption Notification | 1 | 1 | 1 | 1 | 1
FERC-65B Waiver Notification | 0 | 1 | 0 | 1 | 0
Total | ³ N/A | ³ N/A | 9 | ³ N/A | 25

The total estimated annual cost burden to respondents is $1,725.35. [25 hours ÷ 2080 ⁴ hours/year = 0.01202 years * $143,540/year ⁵ = $1,725.35]

³ Not applicable.

⁴ 2080 hours = 40 hours/week * 52 weeks (1 year).

⁵ Average annual salary per employee.

The estimated annual cost of filing the FERC-65, FERC-65A, and FERC-65B per response is $191.71. [$1725.31 ÷ 9 responses = $191.71/response]

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 8, 2012.
Kimberly D. Bose,
Secretary.

[FR Doc. 2012-3407 Filed 2-13-12; 8:45 am]

BILLING CODE 6717-01-P